DEPARTMENT OF HEALTH AND HUMAN SERVICES

Administration for Children and Families

Submission for OMB Review; Comment Request

Title: State Plan for Child Support Under Title IV-D of the Social Security Act (OCSE-100 and OCSE-21-U4).

OMB No.: 0970-0017.

Description: The state plan serves as a contract between the Office of Child Support Enforcement (OCSE) and State IV-D agencies in outlining the activities the state will perform as required by law in order for states to receive Federal funds for child support enforcement. The information collected on the state plan pages is necessary to enable OCSE to determine whether each state has a IV-D state plan that meets the requirements in title IV-D of the Social Security Act (the Act) and implementing regulations. The state plan preprint gives each state a convenient method for developing a statement to be submitted to OCSE for approval describing the nature and scope of its program and giving assurances that the program will be administered in conformity with the requirements in title IV-D of the Act and the implementing regulations at 45 CFR Chapter III. Once received, the Federal office will review the state plan to ensure its compliance with regulations.

Respondents: State IV-D Agencies.

Annual Burden Estimates
Instrument | Number of respondents | Number of responses per respondent | Average burden hours per response | Total burden hours
State Plan (OCSE-100) | 54 | 6 | .5 | 162
State Plan Transmittal (OCSE-21-U4) | 54 | 6 | .25 | 81

Estimated Total Annual Burden Hours: 243

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: September 13, 2004.
Robert Sargis,
Reports Clearance Officer.

[FR Doc. 04-21024 Filed 9-17-04; 8:45 am]

BILLING CODE 4184-01-M